DEPARTMENT OF TRANSPORTATION

Federal Aviation Administration

14 CFR Part 39

[Docket No. FAA-2006-25581; Directorate Identifier 2006-CE-41-AD]

RIN 2120-AA64

Airworthiness Directives; EADS SOCATA Model TBM 700 Airplanes

AGENCY: Federal Aviation Administration (FAA), Department of Transportation (DOT).

ACTION: Notice of proposed rulemaking (NPRM).

SUMMARY: We propose to adopt a new airworthiness directive (AD) for the products listed above. This proposed AD results from mandatory continuing airworthiness information (MCAI) issued by an airworthiness authority of another country to identify and correct an unsafe condition on an aviation product. The proposed AD would require actions that are intended to address an unsafe condition described in the MCAI.

DATES: We must receive comments on this proposed AD by October 16, 2006.

ADDRESSES: You may send comments by any of the following methods:

• DOT Docket Web Site: Go to http://dms.dot.gov and follow the instructions for sending your comments electronically.

• Fax: (202) 493-2251.

• Mail: Docket Management Facility, U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

• Federal eRulemaking Portal: http://www.regulations.gov. Follow the instructions for submitting comments.

Examining the AD Docket

You may examine the AD docket on the Internet at http://dms.dot.gov; or in person at the Docket Management Facility between 9 a.m. and 5 p.m., Monday through Friday, except Federal holidays. The AD docket contains this proposed AD, the regulatory evaluation, any comments received, and other information. The street address for the Docket Office (telephone (800) 647-5227) is in the ADDRESSES section. Comments will be available in the AD docket shortly after receipt.

FOR FURTHER INFORMATION CONTACT: Gunnar Berg, Aerospace Engineer, FAA, Small Airplane Directorate, 901 Locust, Room 301, Kansas City, Missouri 64106; telephone: (816) 329-4141; facsimile: (816) 329-4090.

SUPPLEMENTARY INFORMATION:

Streamlined Issuance of AD

The FAA is implementing a new process for streamlining the issuance of ADs related to MCAI. The streamlined process will allow us to adopt MCAI safety requirements in a more efficient manner and will reduce safety risks to the public. This process continues to follow all FAA AD issuance processes to meet legal, economic, Administrative Procedure Act, and Federal Register requirements. We also continue to meet our technical decisionmaking responsibilities to identify and correct unsafe conditions on U.S.-certificated products.

Comments Invited

We invite you to send any written relevant data, views, or arguments about this proposed AD. Send your comments to an address listed under the ADDRESSES section. Include “Docket No. FAA-2006-25581; Directorate Identifier 2006-CE-41-AD” at the beginning of your comments. We specifically invite comments on the overall regulatory, economic, environmental, and energy aspects of this proposed AD. We will consider all comments received by the closing date and may amend this proposed AD because of those comments.

We will post all comments we receive, without change, to http://dms.dot.gov, including any personal information you provide. We will also post a report summarizing each substantive verbal contact we receive about this proposed AD.

Discussion

The European Aviation Safety Agency, which is the airworthiness authority for the European Union, has issued Emergency AD No. 2006-0226-E, Issue date: July 21, 2006 (referred to after this as “the MCAI”), to correct an unsafe condition for the specified products. The MCAI states that the aircraft manufacturer has identified an unsafe condition resulting from an incomplete thermal treatment done on three hinge pin batches lowering their mechanical properties with a high risk of deformation under service loads. If not corrected, the nose landing gear (NLG) hinge pin may rupture and cause an uncommanded NLG retraction.

The MCAI requires that you first identify the concerned NLG, and second, detect the defective hinge pins on aircraft or on shelves and replace them with new ones. You may obtain further information by examining the MCAI in the docket.

Relevant Service Information

EADS SOCATA has issued TBM Aircraft Alert Service Bulletin SB 70-147, ATA No. 32, dated July 2006. The actions described in this service information are intended to correct the unsafe condition identified in the MCAI.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Differences Between the Proposed AD and the MCAI or Service Information

We have reviewed the MCAI and related service information and, in general, agree with their substance. But we might have found it necessary to use different words from those in the MCAI to ensure the AD is clear for U.S. operators and is enforceable in a U.S. court of law. In making these changes, we do not intend to differ substantively from the information provided in the MCAI and related service information.

We might also have proposed different actions in this AD from those in the MCAI in order to follow FAA policies. Any such differences are described in a separate paragraph of the proposed AD. These proposed requirements, if ultimately adopted, will take precedence over the actions copied from the MCAI.

Costs of Compliance

Based on the service information, we estimate that this proposed AD would affect about 256 products of U.S. registry. We also estimate that it would take about 2 work-hours per product to do the action and that the average labor rate is $80 per work-hour. Required parts would cost about $1,025 per product. Where the service information lists required parts costs that are covered under warranty, we have assumed that there will be no charge for these costs. As we do not control warranty coverage for affected parties, some parties may incur costs higher than estimated here. Based on these figures, we estimate the cost of the proposed AD on U.S. operators to be $303,360, or $1,185 per product.

Authority for This Rulemaking

Title 49 of the United States Code specifies FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

EADS SOCATA: FAA-2006-25581; Directorate Identifier 2006-CE-41-AD

Comments Due Date

(a) We must receive comments on this proposed airworthiness directive (AD) by October 16, 2006.

Affected ADs

(b) None.

Applicability

(c) This AD applies to all Model TBM 700 airplanes fitted with nose landing gear (NLG) part number (P/N) 21130-001-02 with serial numbers (S/N) B168 through B173 and S/N EUR 174 through EUR 239, that are certificated in any U.S. category.

Reason

(d) The mandatory continuing airworthiness information (MCAI) states that the aircraft manufacturer has identified an unsafe condition resulting from an incomplete thermal treatment done on three hinge pin batches lowering their mechanical properties with a high risk of deformation under service loads. If not corrected, the NLG hinge pin may rupture and cause an uncommanded NLG retraction.

Actions and Compliance

(e) Within 30 days after the effective date of this AD, unless already done, do the following except as stated in paragraph (f) below.

(1) Verify the NLG serial number to determine its eligibility to this AD. If the NLG S/N is not listed in the applicability paragraph of this AD, no further action is required.

(2) For airplanes with the applicable NLG S/N, apply the operational procedure as indicated in paragraph A of the accomplishment instructions of EADS SOCATA TBM Aircraft Alert Service Bulletin SB 70-147, ATA No. 32, dated July 2006. This can be done by inserting into the airplane flight manual, the EADS SOCATA TBM Aircraft Alert Service Bulletin SB 70-147, ATA No. 32, dated July 2006.

(3) Identify the pin batch number as instructed in paragraph B of the accomplishment instructions of EADS SOCATA TBM Aircraft Alert Service Bulletin SB 70-147, ATA No. 32, dated July 2006. For airplanes with the correct pin batch numbers, no further action is required. Return the airplane to service as instructed in EADS SOCATA TBM Aircraft Alert Service Bulletin SB 70-147, ATA No. 32, dated July 2006.

(4) For airplanes with pins from the defective pin batch numbers or for which the batch number is unreadable, do all the actions as instructed in paragraphs B 5), C, and D of the accomplishment instructions of EADS SOCATA TBM Aircraft Alert Service Bulletin SB 70-147, ATA No. 32, dated July 2006.

(5) As of the effective date of this AD, no person shall install on any EADS SOCATA Model TBM 700 airplane, any NLG actuator hinge pins coming from the three defective batches identified as EUR BC 21344-000-01, EUR BD 21344-000-01, and EUR BF 21344-000-01 on NLG part number 21130-001-02.

FAA AD Differences

(f) None.

Other FAA AD Provisions

(g) The following provisions also apply to this AD:

(1) Alternative Methods of Compliance (AMOCs): The Manager, Standards Staff, FAA, Small Airplane Directorate, ATTN: Gunnar Berg, Aerospace Engineer, 901 Locust, Room 301, Kansas City, Missouri 64106; telephone: (816) 329-4141; facsimile: (816) 329-4090, has the authority to approve AMOCs for this AD, if requested using the procedures found in 14 CFR 39.19.

(2) Return to Airworthiness: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) This AD is related to European Aviation Safety Agency Emergency AD No. 2006-0226-E, Issue date: July 21, 2006, which references EADS SOCATA TBM Aircraft Alert Service Bulletin SB 70-147, ATA No. 32, dated July 2006.

Issued in Kansas City, Missouri, on September 11, 2006.
David R. Showers,
Acting Manager, Small Airplane Directorate, Aircraft Certification Service.

[FR Doc. E6-15332 Filed 9-14-06; 8:45 am]

BILLING CODE 4910-13-P